DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 7489-7490, dated February 19, 2010) is amended to reflect the establishment of the Office of Infectious Diseases, Centers for Disease Control and Prevention.

Section C-B, Organization and Functions, is hereby amended as follows: After the mission statement for the Centers for Disease Control and Prevention (C), insert the following:

Office of Infectious Diseases (CV). The mission of the Office of Infectious Diseases (OID) is to lead, promote, and facilitate science, programs, and policies to reduce the burden of infectious diseases in the United States and globally.

Office of the Director (CVA). (1) Serves as the principal advisor to the CDC Director on infectious disease issues; (2) assists the CDC Director in formulating and communicating strategic initiatives and policies; (3) informs the CDC Director about key infectious disease issues; (4) represents the CDC Director externally on infectious disease issues; (5) provides strategic leadership to CDC's infectious disease national centers; (6) develops overall strategic directions, sets priorities, and promotes science, policies, and programs related to infectious diseases; (7) ensures that agency-wide decisions on resource allocation are aligned with infectious disease priorities; (8) works with infectious disease national centers, other CDC centers and offices, and public health partners to develop and implement infectious disease goals and objectives; (9) identifies infectious disease issues of public health importance and launches strategic initiatives to address them, including developing shared goals and monitoring progress and accomplishments; (10) recruits and supports an efficient, effective, and vibrant work force, and fosters a safe and healthy work environment; (11) enhances cooperation, collaboration, and partnerships across multiple sectors, domestically and globally; (12) ensures integrity, transparency, and excellence in public health science and practice; (13) conducts ongoing evaluation and adjustment of infectious disease activities to ensure optimal effectiveness and efficiency; (14) promotes an environment that increases synergies and efficiencies and reduces duplication within CDC's infectious disease programs; and (15) provides direction and leadership for external and internal program reviews of the infectious disease national centers' initiatives, performance, and achievements.

Influenza Coordination Unit (CVA4). The mission of the Influenza Coordination Unit (ICU) is to synchronize all aspects of CDC's pandemic influenza preparedness and response from strategy through implementation and evaluation. In carrying out its mission, the ICU: (1) Serves as the principal advisor to the CDC Director and Deputy Director for Infectious Diseases on pandemic influenza preparedness and response activities, assisting the Director and Deputy Director for Infectious Diseases in formulating and communicating strategic pandemic initiatives and policies; (2) provides strategic leadership for CDC in the areas of pandemic preparedness and response, including setting priorities and promoting science, policies, and programs related to pandemic influenza; (3) strategically manages a $150+ million budget and allocates funds across the agency to ensure appropriate resources for high priority areas; and (4) conducts ongoing evaluation and adjustment of pandemic preparedness and response activities, in coordination with the National Response Framework and other emergency preparedness guidance, to ensure optimal public health effectiveness and efficient use of human and fiscal resources.

Dated: February 23, 2010.
William P. Nichols,
Chief Operating Officer, Centers for Disease Control and Prevention.

[FR Doc. 2010-4391 Filed 3-3-10; 8:45 am]

BILLING CODE 4160-18-M